DEPARTMENT OF THE INTERIOR

National Park Service

[NPS-NERO-STSP-15908; PPNESTSP00 PPMPSPD1Z.YM0000]

Notice of Meeting for Star-Spangled Banner National Historic Trail Advisory Council

AGENCY: National Park Service, Interior.

ACTION: Notice of Meeting.

SUMMARY: As required by the Federal Advisory Committee Act (5 U.S.C. Appendix 1-16), the National Park Service (NPS) is hereby giving notice that the Advisory Council for the Star-Spangled Banner National Historic Trail will hold a meeting. The trail commemorates the Chesapeake Campaign of the War of 1812, including the British invasion of Washington, District of Columbia, and its associated feints, and the Battle of Baltimore in summer 1814.

This meeting is open to the public. Preregistration is required for both public attendance and comment. Any individual who wishes to attend the meeting and/or participate in the public comment session should register via email at Christine_Lucero@nps.gov or telephone (757) 258-8914. For those wishing to make comments, please provide a written summary of your comments prior to the meeting. The Designated Federal Official for the Advisory Council is Suzanne Copping, Program Manager, telephone (410) 260-2476.

DATES: The Star-Spangled Banner National Historic Trail Advisory Council will meet from 10:00 a.m. to 3:00 p.m. on Wednesday, July 9, 2014 (eastern).

ADDRESSES: The meeting will be held at the Maryland Archaeological Conservation Lab at Jefferson Patterson Park & Museum, 10515 Mackall Road, St. Leonard, MD 20685.

FOR FURTHER INFORMATION CONTACT: Christine Lucero, Partnership Coordinator, Chesapeake Bay Office, telephone (757) 258-8914 or email Christine_Lucero@nps.gov.

SUPPLEMENTARY INFORMATION: Under section 10(a)(2) of the Federal Advisory Committee Act (5 U.S.C. Appendix 1-16), this notice announces a meeting of the Star-Spangled Banner National Historic Trail Advisory Council. Topics to be discussed include setting priorities for the trail in the coming years and the potential creation of a “Friends Group.”

The Council meeting is open to the public. Comments will be taken for 30 minutes at the end of the meeting (from 2:30 p.m. to 3:00 p.m.). Before including your address, telephone number, email address, or other personal indentifying information in your comment, you should be aware that your entire comment—including your personal identifying information—may be made publicly available at any time. While you may ask us in your comment to withhold your personal identifying information from public review, we cannot guarantee that we will be able to do so. All comments will be made part of the public record and will be electronically distributed to all Council members.

Dated: June 12, 2014.
Alma Ripps,
Chief, Office of Policy.

[FR Doc. 2014-14234 Filed 6-17-14; 8:45 am]

BILLING CODE 4310-EE-P